DEPARTMENT OF AGRICULTURE

Rural Utilities Service

7 CFR Part 1755

RUS Specification for Telecommunications Cable Splicing Connectors

AGENCY: Rural Utilities Service, USDA.

ACTION: Proposed rule.

SUMMARY: The Rural Utilities Service (RUS) an agency delivering the U.S. Department of Agriculture's Rural Development Utilities Programs, proposes to amend its regulations on Telecommunications Standards and Specifications for Materials, Equipment, and Construction, by revising, renumbering, and renaming RUS Bulletin 345-54, “RUS Specification for Telephone Cable Splicing Connectors, PE-52.” The revised specification updates the relevant engineering and technical requirements for telecommunications splicing connectors including provisions for mechanical fiber-optic splicing connectors.

DATES: Written comments must be received by RUS or be postmarked no later than December 20, 2004.

ADDRESSES: You may submit comments by any of the following methods:

• Federal eRulemaking Portal: Go to http://www.regulations.gov. Follow the online instructions for submitting comments.

• Agency Web site: http://www.usda.gov/rus/index2/Comments.htm. Follow the instructions for submitting comments.

• E-mail: RUSComments@usda.gov. Include in the subject line of the message “Specification for Telecommunications Cable Splicing Connectors.”

• Mail: Addressed to Richard Annan, Acting Director, Program Development and Regulatory Analysis, Rural Utilities Service, U.S. Department of Agriculture, 1400 Independence Avenue, SW., STOP 1522, Washington, DC 20250-1522.

• Hand Delivery/Courier: Addressed to Richard Annan, Acting Director, Program Development and Regulatory Analysis, Rural Utilities Service, U.S. Department of Agriculture, 1400 Independence Avenue, SW., Room 5168-S, Washington, DC 20250-1522.

Instructions: All submissions received must include that agency name and the subject heading “Specification for Telecommunications Cable Splicing Connectors”. All comments received must identify the name of the individual (and the name of the entity, if applicable) who is submitting the comment. All comments received will be posted without change to http://www.usda.gov/rus/index2/Comments.htm, including any personal information provided.

FOR FURTHER INFORMATION CONTACT: Norberto Esteves, Chief, Technical Support Branch, Advance Services Division, Rural Utilities Service, U.S. Department of Agriculture, 1400 Independence Avenue, SW., STOP 1598, Washington, DC 20250-1598, telephone (202) 720-0699 or e-mail: Norberto.Esteves@usda.gov.

SUPPLEMENTARY INFORMATION:

Executive Order 12866

This proposed rule is exempted from the Office of Management and Budget (OMB) review for purposes of Executive Order 12866 and, therefore has not been reviewed by OMB.

Executive Order 12988

This proposed rule has been reviewed under Executive Order 12988, Civil Justice Reform. RUS has determined that this proposed rule meets the applicable standards provided in section 3 of the Executive Order. In addition, all state and local laws and regulations that are in conflict with this rule will be preempted. No retroactive effect will be given to this rule and in accordance with § 212(e) of the Department of Agriculture Reorganization Act of 1994 (7 U.S.C. 6912(e)) administrative appeal procedures, if any, must be exhausted before an action against the Department or its agencies may be initiated.

Regulatory Flexibility Act Certification

RUS has determined that this proposed rule will not have a significant impact on a substantial number of small entities, as defined by the Regulatory Flexibility Act (5 U.S.C. 601 et seq.), and therefore, the Regulatory Flexibility Act does not apply to this rule. This proposed rule involves standards and specifications, which may increase the short-term direct costs to the RUS borrower. However, the long-term direct economic costs are reduced through greater durability and lower maintenance cost over time.

Information Collection and Recordkeeping Requirements

The information collection and recordkeeping requirements contained in this proposed rule were approved by the Office of Management and Budget (OMB) pursuant to the Paperwork Reduction Act of 1995 (44 U.S.C. Chapter 35, as amended) under control number 0572-0059.

National Environmental Policy Act Certification

The Administrator of RUS has determined that this proposed rule will not significantly affect the quality of the human environment as defined by the National Environmental Policy Act of 1969 (42 U.S.C. 4321 et seq.). Therefore, this action does not require an environmental impact statement or assessment.

Catalog of Federal Domestic Assistance

The programs described by this proposed rule are listed in the Catalog of Federal Domestic Assistance Programs under No. 10.851, Rural Telephone Loans and Loan Guarantees; No. 10.852, Rural Telephone Bank Loans, and No. 10.857, Rural Broadband Access Loans and Loan Guarantees. This catalog is available on a subscription basis from the Superintendent of Documents, United States Government Printing Office, Washington, DC 20402. Telephone: (202) 512-1800.

Executive Order 12372

This proposed rule is excluded from the scope of Executive Order 12372, Intergovernmental Consultation, which may require consultation with State and local officials. See the final rule related notice entitled, “Department Programs and Activities Excluded from Executive Order 12372” (50 FR 47034) excludes RUS and RTB loans and loan guarantees, and RTB bank loans, to governmental and nongovernmental entities from coverage under this Order.

Unfunded Mandates

This proposed rule contains no Federal mandates (under the regulatory provision of Title II of the Unfunded Mandates Reform Act of 1995 (2 U.S.C. 1501 et seq.)) for State, local, and tribal governments or the private sector. Thus, this proposed rule is not subject to the requirements of sections 202 and 205 of the Unfunded Mandates Reform Act.

Executive Order 13132

This proposed regulation will not have substantial direct effects on the States, on the relationship between the national government and the States, or on distribution of power and responsibilities among the various levels of government. Under Executive Order 13132, this proposed rule does not have sufficient federalism implications for which we would prepare a Federalism Assessment.

Background

RUS regularly publishes and updates telecommunications “bulletins,” which guide telecommunications borrowers through codified policies, procedures, and requirements for RUS grant, loan, and loan guarantee programs. Such bulletins contain, for example, standards and specifications for the construction of telecommunications facilities financed with RUS grants, loans, and/or loan guarantees. RUS herein proposes the revision, renumbering, and renaming of RUS Bulletin 345-54 (PE-52), “RUS Specification for Telephone Cable Splicing Connectors” (hereinafter “RUS Bulletin 3452-54”) in order to reflect recent technological changes and to conform to the existing numbering system of the agency. The proposed bulletin would become RUS Bulletin 1755F-402 (PE-52), “RUS Specification for Telecommunications Cable-Splicing Connectors” (hereinafter “RUS Bulletin 1755F-402.”)

At present, RUS Bulletin 345-54 contains certain mechanical and environmental requirements, desired design features, and test methods for the evaluation of copper cable-splicing connectors. The current specification, however, does not address the mechanical, electrical, and environmental reliability of “fiber-optic” splicing connectors, given that at the time the spec was written, no such technology existed. But because of technological advances in the production of such connectors over the past 25 years, and in the test methods of their functional reliability, the current specifications have become outdated. Recognizing the technological innovations in fiber-optic technology and that RUS borrowers provide telecommunications using fiber-optics, the current specification has been revised to allow RUS borrowers to take advantage of the improvements in connector production and in the test methods available for fiber-optic cable-splicing connectors. Specifically, proposed RUS Bulletin 1755F-402 includes end-product performance requirements and test methods to evaluate the mechanical, electrical, and environmental reliability of fiber-optic splicing connectors designed for use with fiber-optic systems.

On September 24, 1998, RUS had published a proposed rule in the Federal Register at 63 FR 51018 intending to rescind RUS Bulletin 345-54, and to codify the revised specification at § 1755.521 of this part instead. Comments to the proposed rule were due on November 23, 1998. Only one comment, however, was received. The sole commenter recommended that RUS use the latest issuance of two American Society for Testing and Materials (ASTM) specifications referenced in the proposed rule; specifically asking that ASTM G 21-90 be changed to ASTM G 21-96 (Standard Practice for Determining Resistance of Synthetic Polymeric Materials to Fungi), and that ASTM A 276-91a be changed to ASTM A 276-98a (Standard Specification for Stainless Steel Bars and Shapes). RUS agreed with that recommendation and made the applicable changes to the ASTM standards referenced by the commenter. However, in response to those ASTM changes, as well as other changes made to the specification since the last comment period, RUS has decided to revise, renumber, and rename RUS Bulletin 345-54, instead of codifying the changes into § 1755.521 of this part as intended in 1998. As such, RUS has decided to republish proposed RUS Bulletin 1755F-402 to allow interested parties to comment on the subsequent changes that were made.

List of Subjects in 7 CFR Part 1755

Loan programs-telecommunications, Reporting and recordkeeping requirement, Rural areas, Telecommunications.

For reasons set out in the preamble, RUS proposes to amend Chapter XVII of Title 7 of the Code of Federal Regulations to read as follows:

PART 1755—TELECOMMUNICATIONS STANDARDS AND SPECIFICATIONS FOR MATERIALS, EQUIPMENT AND CONSTRUCTION.

1. The authority citation for part 1755 continues to read as follows:

Authority: 7 U.S.C. 901 et seq., 1921 et seq., 6941 et seq.

2. Section 1755.97 is amended by removing the entry “RUS Bulletin 345-54” from the table and adding, in numerical order, the new entry “1755F-402” to read as follows:

§ 1755.97 Incorporation by reference of telecommunications standards and specifications.

* * * * *

RUS bulletin No. | Specification No. | Date last issued | Title of standard or specification
* * * * * * *
1755-402 | PE-52 | [Effective date of final rule] | RUS specification for telecommunications splicing connectors.
* * * * * * *

Dated: October 1, 2004.
Hilda Gay Legg,
Administrator, Rural Utilities Service.

[FR Doc. 04-23477 Filed 10-19-04; 8:45 am]

BILLING CODE 3410-15-P